DEPARTMENT OF EDUCATION

Special Demonstration Programs—Model Demonstration Projects—Improving the Postsecondary and Employment Outcomes of Youth With Disabilities

AGENCY: Office of Special Education and Rehabilitative Services, Department of Education.

ACTION: Notice of proposed priority and definitions.

SUMMARY: The Assistant Secretary for Special Education and Rehabilitative Services (OSERS) proposes a priority and definitions under the Special Demonstrations Program administered by the Rehabilitation Services Administration (RSA). The Assistant Secretary may use the priority and definitions for competitions in fiscal year (FY) 2007 and later years. We take this action to focus Federal financial assistance on an identified area of national need. We intend the priority to improve the post-school and employment outcomes of youth with disabilities.

DATES: We must receive your comments on or before March 19, 2007.

ADDRESSES: Address all comments about the proposed priority and definitions to Edwin Powell, U.S. Department of Education, 400 Maryland Avenue, SW., room 5038, Potomac Center Plaza, Washington, DC 20202-2550. Telephone: (202) 245-7505 or by e-mail: edwin.powell@ed.gov.

You must include the term “Transition Priority” in the subject line of your electronic message.

FOR FURTHER INFORMATION CONTACT: Edwin Powell. Telephone: (202) 245-7505, or via Internet: edwin.powell@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding the proposed priority and definitions.

We invite you to assist us in complying with the specific requirements of Executive Order 12866 and its overall requirement of reducing regulatory burden that might result from the proposed priority and definitions. Please let us know of any further opportunities we should take to reduce potential costs or increase potential benefits while preserving the effective and efficient administration of the program.

During and after the comment period, you may inspect all public comments about the proposed priority and definitions in room 5038, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priority and definitions. If you want to schedule an appointment for this type of aid, please contact the person listed under FOR FURTHER INFORMATION CONTACT.

Background

Youth with disabilities face significant challenges both in the school environment and as they transition to adult life. National studies and reports have shown that, compared to their non-disabled peers, students with disabilities are less likely to receive a regular high school diploma; drop out twice as often; and enroll in and complete postsecondary education programs at half the rate; and, up to two years after leaving high school, about 4 in 10 youths with disabilities are employed as compared to 6 in 10 same-age out-of-school youth in the general population (National Center for Education Statistics, 2000; National Longitudinal Transition Study-2 (NLTS2), 2005). These and other related findings on the secondary and postsecondary outcomes of youth with disabilities have spurred Federal and State efforts to improve transition policies and practices.

The transition of youth with disabilities is a shared responsibility under the Individuals with Disabilities Education Act (IDEA) and the Rehabilitation Act of 1973, as amended (Rehabilitation Act). Primary responsibility for the transition of children with disabilities under IDEA rests with State educational agencies (SEAs). However, the State Vocational Rehabilitation (VR) Services Program authorized under the Rehabilitation Act also has a key role facilitating the transition of youth with disabilities, including providing consultation and technical assistance to SEAs, participating in transition planning, identifying youth who are in need of VR services, and providing transition services to eligible individuals.

Federal and State efforts to improve the post-school outcomes of youth with disabilities have resulted in some important gains over the past decade, including increases in graduation rates, enrollment in postsecondary education, and the number of youth entering the workforce (Office of Special Education Programs, Data Analysis System (DANS); Newman, 2005; Cameto and Levine, 2005). Despite these gains, far too many youth with disabilities continue to experience difficulties in achieving successful post-school outcomes (NLTS2, 2005).

Complicating factors are that transition efforts involve coordination between many different parties and developing and implementing effective programs can be difficult. Interagency partnerships at the State and local level are needed to ensure effective agency collaboration, including coordination of policies and practices, sharing of knowledge, information, and other resources, and providing technical assistance and training. A State level interagency transition team can promote effective collaborative models, provide training and technical assistance across the State, and maintain communication and support for the transition community. Local community transition teams identify common goals and action plans, problem solve through interagency collaboration, create community-based options for students, seek funding, and implement action plans (Investing in the Transition of Youth with Disabilities to Productive Careers, Twenty-Eighth Institute on Rehabilitation Issues, 2002).

Although the scientifically-based research is limited, the literature indicates that there are a number of transition practices that, in addition to interagency collaboration, are associated with successful outcomes for youth with disabilities (Kohler, 1996; Benz, Lindstrom, and Yovanoff, 2000; National Collaborative on Workforce Disability for Youth, 2004). These practices include student-focused planning, career preparatory and pre-employment experiences, youth development activities, and enhancement of family involvement.

As the primary Federal vehicle for assisting individuals with disabilities to obtain employment, the VR program is a critical link in assisting youths with disabilities to prepare for education, training, and employment opportunities beyond high school. VR professionals bring to the table valuable knowledge and expertise about the world of work and disability, including career planning, occupational trends and local employment opportunities, job-related education, training and skills, job seeking and retention skills, and accommodations. They also are knowledgeable about adult service systems and the range of benefits and resources available to assist individuals with disabilities. However, research shows that there is an ongoing gap between transition service needs and VR professional involvement in assisting students with disabilities during the transition years (NLTS2, 2005).

Model transition programs that build on current collaborative State and local efforts and demonstrate the use of promising practices are needed to improve the postsecondary education and employment outcomes of youth with disabilities. These practices include the effective use of VR personnel in transition planning and the delivery of services.

We will announce the final priority and definitions in a notice in the Federal Register. We will determine the final priority and definitions after considering responses to this notice and other information available to the Department. This notice does not preclude us from proposing or using other priorities and definitions, subject to meeting applicable rulemaking requirements.

Note: This notice does not solicit applications. In any year in which we choose to use the priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

The Assistant Secretary proposes this priority to support projects that demonstrate the use of promising practices of collaborative transition planning and service delivery in improving the postsecondary education and employment outcomes of youth with disabilities.

In order to meet this priority, an applicant must —

(1) Provide an assurance that the State has an interagency transition taskforce that provided input in the development of the application and that the interagency transition taskforce will—

(a) Play an advisory role in the operation of the project;

(b) Assist in the development of project goals;

(c) Review project findings; and

(d) Assist in the dissemination of project findings;

(2) Demonstrate that the project for which it seeks funding will—

(a) Implement a model transition program that is designed to improve post-school outcomes of students with disabilities through the use of local interagency transition teams and the implementation of a coordinated set of promising practices and strategies. The activities must be implemented at a minimum of two sites to be carried out in coordination with the applicable local educational agency (LEA) or LEAs;

(b) Provide transition services to youth with disabilities, including—

(i) Individualized VR services to youth with disabilities who are eligible for such services consistent with 34 CFR 361.42; and

(ii) Services to groups of youth with disabilities, through methods such as workshops and seminars, to support the transition of such youths to post-school and employment outcomes;

(c) Provide training and technical assistance to LEAs and State VR personnel responsible for planning and providing transition services to students with disabilities;

(d) Conduct outreach activities that assist in the identification of students with disabilities who are in need of VR services;

(e) Analyze and use the secondary education and post-school outcome data of youth with disabilities collected by the SEA and other relevant data to assist the project to improve transition services and post-school outcomes;

(f) Conduct an evaluation of the project's performance, including an evaluation of the effectiveness of the practices and strategies implemented by the project in achieving project goals, particularly post-school outcomes;

(3) Provide evidence that the LEAs responsible for providing transition services to children with disabilities under the IDEA in the local sites proposed by the applicant will participate in carrying out project activities (e.g., letter of support); and

(4) Provide a description of—

(a) The State interagency transition taskforce members, including their roles and responsibilities with respect to transition planning and the provision of services;

(b) The local interagency team members, including their roles and responsibilities with respect to transition planning and the provision of services;

(c) The coordinated set of promising practices that it proposes to provide, which, at a minimum, must include student-focused planning, career preparatory and pre-employment experiences, youth development activities, and practices to enhance family involvement;

(d) The evaluation plan, including project goals, measurable objectives, and operational definitions and the data to be collected and how it will be analyzed. At a minimum these data must include: high school exit data (academic achievement and functional performance data, high school graduation outcomes, including type of diploma received); student's post-school goals; services provided; postsecondary education outcomes; employment outcomes (type of employment, wages and earnings, hours worked, weeks of employment); and public benefits received such as Supplemental Security Income and Social Security Disability Insurance; and

(e) A plan for the systematic dissemination of project findings and knowledge gained that will assist State and local agencies in adapting or replicating the transition model carried out by the project.

Definitions:

(1) Career preparatory and pre-employment experiences means experiences and activities to help students become prepared for a successful future in postsecondary education or employment including: Instruction in learning and study strategies; career education activities that assist the student to form and develop career aspirations and to make informed choices about careers; structured work experiences such as job shadowing, volunteer and community service, and on-the-job training experiences; and employment skills instruction such as work-related behaviors and skills training, job seeking skills, and occupation-specific vocational skill training.

(2) State interagency transition taskforce means a group of individuals who meet on a regular basis to facilitate interagency collaboration and the coordination of practices and services to improve the transition of students with disabilities from secondary education to postsecondary education and employment, such as identifying and addressing systemic transition barriers; facilitating the coordination of transition policies, practices, and services within the State; providing technical assistance; and disseminating information on promising practices.

(a) The group must, at a minimum, include one or more representatives of the State VR agency (including, where applicable, the State VR agency for the Blind), SEA, State Labor and Employment/Workforce agency, Social Security Administration, State developmental disabilities agency, and the State mental health agency. The group must also include individuals to represent the perspectives of business and industry and transitioning youth with disabilities.

(b) The group may also include representatives from other relevant entities such as the State Rehabilitation Council (if applicable in the State), State Independent Living Council, State Developmental Disabilities and Mental Health Planning Councils, postsecondary educational institutions, transition service providers, parents of transitioning youth with a disability, and other stakeholders.

(3) Student-focused planning means activities designed to facilitate student participation, self-evaluation and self-determination, including goal setting and decision making within the planning process. Examples of such activities include the identification of student interests and preferences; use of educational, career and psychological assessments in the development of postsecondary education, training, and vocational goals; career, vocational counseling, and guidance; VR participation at individualized education program (IEP) meetings; joint IEP and individualized plan for employment (IPE) planning meetings; and timely referrals to adult service providers.

(4) Transition services, as defined in section (7)(37) of the Rehabilitation Act, means a coordinated set of activities for a student, designed within an outcome-oriented process, that promotes movement from school to post-school activities, including postsecondary education, vocational training, and integrated employment (including supported employment), continuing and adult education, adult services, independent living, or community participation. The coordinated set of activities must be based upon the individual student's needs, taking into account the students preferences and interests, and shall include instruction, community experiences, the development of employment and other post school adult living objectives, and when appropriate, acquisition of daily living skills and functional vocational evaluation.

(5) Youth development activities means activities that help students to control and direct their own lives based on informed decisions and to become self-sufficient and productive members of society such as learning to communicate their disability-related work support and accommodation needs and learning to find, request, and secure appropriate supports and reasonable accommodations in education, training and employment settings. Examples of youth development activities include: mentoring opportunities, training in life skills such as independent living skills, self-advocacy, and conflict resolution; exposure to personal leadership and youth development activities; and exposure to post-program supports.

(6) Youth with disabilities means individuals with a disability as defined in paragraph (b) of the definition of “individual with a disability” in 34 CFR 373.4 who is between the ages of 16 and 22.

References

Benz, M.R., Lindstrom, L. & Yovanoff, P. (Summer 2000). Improving graduation and employment outcomes of students with disabilities: Predictive factors and student perspectives. Exceptional Children, 66 (4), 509-29.

Cameto, R., Levine, P. & Wagner, M. (November 2004). Transition Planning for Students with Disabilities: A Special Report from The National Longitudinal Transition Study-2. Prepared For: Office Of Special Education Programs, U.S. Department Of Education, SRI Project P11182. Menlo Park, CA: SRI International.

Institute on Rehabilitation Issues, 2002. Investing in the Transition of Youth with Disabilities to Productive Careers Twenty-Eighth University of Arkansas Region VI Rehabilitation Continuing Education Program

Kohler, P.D. (1996) Taxonomy for Transition Programming: A Model for Planning, Organizing, and Evaluating Transition Education, Services, and Programs.

National Center for Education Statistics (NCES). (2002). Digest of education statistics, 2002. Washington, DC: U.S. Department of Education.

National Collaborative on Workforce Disability for Youth, Guideposts for Success, 2004.

National Collaborative on Workforce Disability for Youth. Definitions of Common Terms.

National Council on Disability, (May 2004). Improving Educational Outcomes for Students with Disabilities.

Wagner, M., Newman, L., Cameto, R., & Levine, P., (June 2005). Changes Over Time In The Early Post-school Outcomes Of Youth With Disabilities. A Report from The National Longitudinal Transition Study-2. Prepared For: Office Of Special Education Programs, U.S. Department Of Education, SRI Project P11182. Menlo Park, CA: SRI International.

United States Department of Education, Office of Special Education Programs, Data Analysis System (DANS), 2006

Wagner, M., Newman, L., Cameto, R., Garza, N., & Levine, P. (April 2005). After High School: A First Look At The Post-school Experiences Of Youth With Disabilities: A Report from The National Longitudinal Transition Study-2. Prepared For: Office Of Special Education Programs, U.S. Department Of Education, SRI Project P11182. Menlo Park, CA: SRI International.

Executive Order 12866

This notice of proposed priority and definitions has been reviewed in accordance with Executive Order 12866. Under the terms of the order, we have assessed the potential costs and benefits of this regulatory action.

The potential costs associated with the notice of proposed priority and definitions are those resulting from statutory requirements and those we have determined as necessary for administering this program effectively and efficiently.

In assessing the potential costs and benefits—both quantitative and qualitative—of this notice of proposed priority, definitions, and application requirements we have determined that the benefits of the proposed priority and definitions justify the costs.

We have also determined that this regulatory action does not unduly interfere with State, local, and tribal governments in the exercise of their governmental functions.

Summary of potential costs and benefits

The Assistant Secretary has determined that the cost to the Federal Government associated with this program will not exceed $2,250,000 in FY 2007. No other costs will result from the announcement of this proposed priority and definitions.

The benefit of this proposed priority and definitions would be the establishment of model demonstration projects that will improve the postsecondary education and employment outcomes of students with disabilities.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.235U Special Projects and Demonstrations).

Program Authority: 20 U.S.C. 773(b).

Dated: February 8, 2007.
John H. Hager,
Assistant Secretary for Special Education and Rehabilitative Services.

[FR Doc. E7-2685 Filed 2-14-07; 8:45 am]

BILLING CODE 4000-01-P